DEPARTMENT OF THE INTERIOR

Bureau of Land Management

[AZ-910-0777-XP-241A]

State of Arizona Resource Advisory Council Meeting

AGENCY: Bureau of Land Management, Interior.

ACTION: Arizona Resource Advisory Council Meeting notice.

SUMMARY: This notice announces a meeting of the Arizona Resource Advisory Council (RAC).

The business meeting will be held on December 7, 2006, in Phoenix, Arizona, at the Phoenix District Office located at 21605 North 7th Avenue, Phoenix, Arizona 85027. It will begin at 8 a.m. and conclude at 5 p.m. The morning agenda items to be covered include: Review of the September 6, 2006, Meeting Minutes; Bureau of Land Management (BLM) State Director's Update on Statewide Issues; Presentation on Benefits-Based Recreation; RAC Questions on written reports from BLM Field Managers; Field Office Rangeland Resource Team Proposals; 2007 RAC Annual Work Plan; and Reports by the Standards and Guidelines, Recreation, Off-Highway Vehicle Use, Land Use Planning and Tenure, and Wild Horse and Burro Working Groups. A public comment period will be provided at 11:30 a.m. on December 7, 2006, for any interested publics who wish to address the Council on BLM programs and business.

Under the Federal Recreation Enhancement Act, the BLM Arizona RAC has been designated the Recreation Resource Advisory Council (RRAC), and has the authority to review all BLM and Forest Service recreation fee proposals in Arizona. The afternoon meeting agenda on December 7, will be devoted to presenting the Recreation Enhancement Act (REA) Working Group Report, discussing and voting on the RRAC Protocol and Quarterly Review Schedule for Fee Proposals; and reviewing three fee proposals in Arizona:

(1) Timber Camp Campground (Tonto National Forest)—26 miles north of Globe, this newly-revamped recreation area includes three group sites and one day use only site. The fee proposal will consider an increase from $40 to $60 for group site reservations; $6 per vehicle per night for individual family camping; and no charge for day use only site by individuals.

(2) Groom Creek School/Cabin (Prescott National Forest)—20-minute drive from Prescott, this historic school house and picnic area is available for day use rental to public groups through the Forest Service Arizona Cabin Rental program. The proposed fee for the facility is $150 per day (excluding a $9 reservation fee).

(3) Sycamore Cabin (Prescott National Forest)—Less than 20-minute drive from Phoenix, Flagstaff and Prescott, this historic Prescott National Forest Ranger house is currently available for nightly rental. The fee proposal will consider an increase from $100 to $125 per night (excluding $9 reservation fee). An additional $25 per night will be charged if an RV is brought to the site.

Following the Forest Service proposals, the RRAC will open the meeting to public comments on the fee proposals. After the comment period, the RRAC will recess into Executive Session to evaluate the proposals. After completing their RRAC business, the BLM RAC will reconvene to provide their recommendations on the fee proposals and discuss future RAC meetings and locations.

FOR FURTHER INFORMATION CONTACT: Deborah Stevens, Bureau of Land Management, Arizona State Office, One North Central Avenue, Suite 800, Phoenix, Arizona 85004-4427; 602-417-9215.

Elaine Y. Zielinski,
State Director.

[FR Doc. 06-9197 Filed 11-14-06; 8:45 am]

BILLING CODE 4310-32-P